DEPARTMENT OF STATE

[Public Notice 7699]

In the Matter of the Designation of Imad Fa'iz Mughniyah also Known as Imad Fayiz Mughniyah as a Specially Designated Global Terrorist Pursuant to Section 1(b) of Executive Order 13224, as Amended

In accordance with section 1(b) of Executive Order 13224, as amended (“the Order”), I hereby determine that the individual known as Imad Fa'iz Mughniyah, also known as Imad Fayiz Mughniyah, no longer meets the criteria for designation under the Order, and therefore I hereby revoke the designation of the aforementioned individual as a Specially Designated Global Terrorist pursuant to section 1(b) of the Order.

This notice shall be published in the Federal Register.

Dated: October 24, 2011.
Hillary Rodham Clinton,
Secretary of State.

[FR Doc. 2011-30755 Filed 11-28-11; 8:45 a.m.]

BILLING CODE 4710-10-P